DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: June 21, 2006, 9 a.m.-4:30 p.m., June 22, 2006, 8:30 a.m.-12:30 p.m.

Place: Hubert H. Humphrey Building, 200 Independence Avenue, SW., Room 705A, Washington, DC 20201.

Status: Open.

Purpose: At this meeting the Committee will hear presentations and hold discussions on several health data policy topics. On the morning of the first day the Committee will hear updates and status reports from the Department on various topics including activities of the HHS Data Council and Health Insurance Portability and Accountability Act (HIPAA) implementation. There will also be discussions of Committee letters and documents in preparation. In the afternoon the Committee will continue its discussion of letters and documents in preparation, will hear an update from the Office of the National Coordinator for Health Information Technology, and be briefed by a representative from the Certification Commission for Health Information Technology.

On the morning of the second day the Committee will again discuss letters and documents, hear reports from Subcommittees and Workgroups, and discuss agendas for future meetings.

The times shown above are for the full Committee meeting. Subcommittee breakout sessions are scheduled for late in the afternoon of the first day and in the morning prior to the full Committee meeting on the second day. Agendas for these breakout sessions will be posted on the NCVHS Web site (URL below) when available.

For Further Information Contact: Substantive program information as well as summaries of meetings and a roster for committee members may be obtained from Marjorie S. Greenberg, Executive Secretary, NCVHS, National Center for Health Statistics, Center for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: June 5, 2006.
James Scanlon,
Deputy Assistant Secretary for Planning and Evaluation (OSDP), Office of the Assistant Secretary for Planning and Evaluation.

[FR Doc. 06-5280 Filed 6-9-06; 8:45 am]

BILLING CODE 4151-05-M